NUCLEAR REGULATORY COMMISSION

Agency Information Collection Activities: Submission for the Office of Management and Budget (OMB) Review; Comment Request

AGENCY: U.S. Nuclear Regulatory Commission (NRC).

ACTION: Notice of the OMB review of information and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number.

Information pertaining to the requirement to be submitted:

1. Type of submission: Revision.

2. The title of the information collection: Office of Federal and State Materials and Environmental Management Programs Requests to Agreement States For Information.

3. The form number if applicable: N/A.

4. How often the collection is required: One time or as needed.

5. Who is required or asked to report: Thirty-four Agreement States who have signed Section 274(b) Agreements with NRC.

6. An estimate of the number of annual responses: 142.

7. The estimated number of annual respondents: 34.

8. The number of hours needed annually to complete the requirement or request: 1,066.

9. Applicability of Section 3507(d) of Pub. L. 104-13: Not applicable.

10. Abstract: Agreement States are asked on a one-time or as-needed basis to respond to a specific incident, to gather information on licensing and inspection practices and other technical statistical information. The results of such information requests, which are authorized under Section 274(b) of the Atomic Energy Act, are utilized in part by NRC in preparing responses to Congressional inquiries. Agreement State comments are also solicited in the areas of proposed procedure and policy development.

A copy of the final supporting statement may be viewed free of charge at the NRC Public Document Room, One White Flint North, 11555 Rockville Pike, Room O-1 F21, Rockville, MD 20852. OMB clearance requests are available at the NRC worldwide Web site http://www.nrc.gov/public-involve/doc-comment/omb/index.html. The document will be available on the NRC home page site for 60 days after the signature date of this notice.

Comments and questions should be directed to the OMB reviewer listed below by May 25, 2007. Comments received after this date will be considered if it is practical to do so, but assurance of consideration cannot be given to comments received after this date. Desk Officer, Office of Information and Regulatory Affairs (3150-0029), NEOB-10202, Office of Management and Budget, Washington, DC 20503.

Comments can also be e-mailed to Margaret_A._Malanoski@omb.eop.gov or submitted by telephone at (202) 395-3122.

The NRC Clearance Officer is Margaret A. Janney, 301-415-7245.

Dated at Rockville, Maryland, this 18th day of April, 2007.
For the Nuclear Regulatory Commission.
Margaret A. Janney,
NRC Clearance Officer, Office of Information Services.

[FR Doc. E7-7847 Filed 4-24-07; 8:45 am]

BILLING CODE 7590-01-P